FEDERAL TRADE COMMISSION

16 CFR Part 255

Guides Concerning the Use of Endorsements and Testimonials in Advertising

AGENCY: Federal Trade Commission.

ACTION: Extension of deadline for submission of comments.

SUMMARY: The Federal Trade Commission (“FTC” or “Commission”) is extending until June 18, 2007 the deadline for filing comments on the Guides and on two consumer surveys commissioned by the Commission concerning the interpretation of consumer endorsements.

DATES: Comments on the proposed rule published January 18, 2007, must be received by June 18, 2007.

FOR FURTHER INFORMATION CONTACT: Shira Modell, Attorney, Division of Advertising Practices, Bureau of Consumer Protection, Federal Trade Commission, Washington, DC 20580; (202) 326-3116.

SUPPLEMENTARY INFORMATION: On January 16, 2007, the Commission announced that it was seeking public comment in conjunction with its regulatory review of the Guides Concerning Use of Endorsements and Testimonials in Advertising (“the Guides”). See 72 FR 2214 (Jan. 18, 2007). The Commission's Federal Register notice: (1) Solicited comment on the Guides and on two consumer surveys commissioned by the Commission concerning the interpretation of consumer endorsements; and (2) requested empirical evidence on several issues relating to the Guides. The deadline established for the submission of comments was March 19, 2007.

The Electronic Retailing Association (“ERA”) has requested a 90-day extension of the March 19 deadline. ERA states that it needs the additional time to review the two reports put on the public record in January and compile information from its members to submit for the record in this proceeding.

In light of the number and importance of the issues on which it has requested comment, the Commission has decided to extend the filing deadline until June 18, 2007.

By direction of the Commission.
Donald S. Clark,
Secretary.

[FR Doc. E7-5039 Filed 3-19-07; 8:45 am]

BILLING CODE 6750-01-P